DEPARTMENT OF STATE

[Public Notice: 11873]

Foreign Affairs Policy Board Meeting Notice; Closed Meeting

In accordance with the Federal Advisory Committee Act, 5 U.S.C. app., the Department of State announces a meeting of the Foreign Affairs Policy Board to take place on October 12, 2022, at the Department of State, Washington, DC.

The Foreign Affairs Policy Board reviews and assesses: (1) Economic trends with implications for the United States' role abroad (2) diplomatic priorities on cyberspace, digital infrastructure and emerging technologies; (3) the transition to the green and blue economies, and what are the implications for U.S. foreign policy; and (4) preventing the next pandemics and strengthening global health security. Pursuant to section 10(d) of the Federal Advisory Committee Act, 5 U.S.C. app 10(d), and 5 U.S.C. 552b(c)(1), it has been determined that this meeting will be closed to the public as the Board will be reviewing and discussing matters properly classified in accordance with Executive Order 13526.

This announcement might appear in the Federal Register less than 15 days prior to the meeting. The Department of State finds that there is an exceptional circumstance in that this advisory committee meeting must be held on October 12, 2022, due to the requirements of the Secretary of State's schedule. The Secretary intends to brief the Board and engage in a discussion with them at this meeting.

Authority: 22 U.S.C. 2656 and 5 U.S.C. appendix.

For more information, contact Timothy Peltier at (202) 647-2236.

Timothy Peltier,
Designated Federal Officer, Office of Policy Planning, Department of State.

[FR Doc. 2022-21046 Filed 9-28-22; 8:45 am]

BILLING CODE 4710-10-P